DEPARTMENT OF TRANSPORTATION

National Highway Traffic Safety Administration

[Docket No. NHTSA-2014-0076; Notice 2]

Chrysler Group, LLC, Grant of Petition for Decision of Inconsequential Noncompliance

AGENCY: National Highway Traffic Safety Administration (NHTSA), Department of Transportation (DOT).

ACTION: Grant of petition.

SUMMARY: Chrysler Group, LLC (Chrysler), a wholly owned subsidiary of Fiat S.p.A., has determined that certain model year (MY) 2014 RAM 2500 and RAM 3500 trucks do not fully comply with paragraph S4.3 of Federal Motor Vehicle Safety Standard (FMVSS) No. 110, Tire Selection and Rims and Motor Home/Recreation Vehicle Trailer Load Carrying Capacity Information for Motor Vehicles with a GVWR of 4,536 kilograms (10,000 pounds) or less, or do not fully comply with paragraph S5.3 of FMVSS No. 120, Tire Selection and Rims and Motor Home/Recreation Vehicle Trailer Load Carrying Capacity Information for Motor Vehicles with a GVWR of more than 4,536 kilograms (10,000 pounds). Chrysler filed a report dated May 6, 2014, pursuant to 49 CFR part 573, Defect and Noncompliance Responsibility and Reports and amended that report on June 10, 2014. Chrysler then petitioned NHTSA under 49 CFR part 556 requesting a decision that the subject noncompliance is inconsequential to motor vehicle safety.

ADDRESSES: For further information on this decision contact Stuart Seigel, Office of Vehicle Safety Compliance, National Highway Traffic Safety Administration (NHTSA), telephone (202) 366-5287, facsimile (202) 366-5930.

SUPPLEMENTARY INFORMATION:

I. Chrysler's Petition: Pursuant to 49 U.S.C. 30118(d) and 30120(h) and the rule implementing those provisions at 49 CFR part 556, Chrysler has petitioned for an exemption from the notification and remedy requirements of 49 U.S.C. Chapter 301 on the basis that this noncompliance is inconsequential to motor vehicle safety.

Notice of receipt of Chrysler's petition was published, with a 30-Day public comment period, on August 25, 2014 in the Federal Register (79 FR 50735). No comments were received. To view the petition and all supporting documents log onto the Federal Docket Management System (FDMS) Web site at: http://www.regulations.gov/. Then follow the online search instructions to locate docket number “NHTSA-2014-0076.”

II. Vehicles Involved: The affected vehicles include approximately 198 MY 2014 RAM 2500 trucks and 87 MY 2014 RAM 3500 trucks that were produced from March 4, 2014 through March 6, 2014.

III. Noncompliances: Chrysler explains that due to the absence of the designated rim size and type on the certification labels required by 49 CFR part 567, the subject vehicles do not fully comply with either paragraph S4.3 of FMVSS No. 110, or paragraph S5.3 of FMVSS No. 120.

IV. Rule Text: Paragraph S4.3 of FMVSS No. 110 requires in pertinent part:

. . . S4.3.3 Additional labeling information for vehicles other than passenger cars. Each vehicle shall show the size designation and, if applicable, the type designation of rims (not necessarily those on the vehicle) appropriate for the tire appropriate for use on that vehicle, including the tire installed as original equipment on the vehicle by the vehicle manufacturer, after each GAWR listed on the certification label required by § 567.4 or § 567.5 of this chapter. This information shall be in the English language, lettered in block capitals and numerals not less than 2.4 millimeters high and in the following format: . . .

Paragraph S5.3 of FMVSS No. 120 requires in pertinent part:

S5.3 Each vehicle shall show the information specified in S5.3.1 and S5.3.2 and, in the case of a vehicle equipped with a non-pneumatic spare tire, the information specified in S5.3.3, in the English language, lettered in block capitals and numerals not less than 2.4 millimeters high and in the format set forth following this paragraph. This information shall appear either—

(a) After each GAWR listed on the certification label required by § 567.4 or § 567.5 of this chapter; or at the option of the manufacturer,

(b) On the tire information label affixed to the vehicle in the manner, location, and form described in § 567.4(b) through (f) of this chapter as appropriate of each GVWR=GAWR combination listed on the certification label.

S5.3.1 Tires. The size designation (not necessarily for the tires on the vehicle) and the recommended cold inflation pressure for those tires such that the sum of the load ratings of the tires on each axle (when the tires' load carrying capacity at the specified pressure is reduced by dividing by 1.10, in the case of a tire subject to FMVSS No. 109) is appropriate for the GAWR as calculated in accordance with S5.1.2.

S5.3.2. Rims. The size designation and, if applicable, the type designation of Rims (not necessarily those on the vehicle) appropriate for those tires. . . .

V. Summary of Chrysler's Analyses: Chrysler stated its belief that the subject noncompliance for the absence of the rim marking on the certification label is inconsequential to motor vehicle safety for the following reasons:

1. Tire size and pressure information is located on the Tire Inflation Pressure label which is located in the same door opening as the certification label.

a. Certification label is located on the driver door.

b. Tire placard is located on the forward edge of the driver's B-pillar.

2. Tire size and inflation pressure can be found on each tire.

3. Tire and rim information can be found in the vehicle owner's manual.

4. Rim/wheel size can be derived using the tire information printed on the Tire Inflation Pressure label or the tire sidewall information.

5. Chrysler mentioned that in a previous similar petition the agency stated, “that this noncompliance will not have an adverse effect on vehicle safety. Since rim size and type information are marked on the wheels of the vehicles, and the rim diameter can be determined from the tire size on the placard attached to some of the vehicles, the information needed to ensure that the vehicles are equipped with the proper rims and compatible tires is readily available to potential users.”

6. Chrysler is not aware of any warranty claims, field reports, customer complaints, legal claims or any incidents or injuries related to the subject condition.

7. Chrysler also stated its belief that NHTSA has previously granted petition similar in nature.

With respect to the incorrect statement used to indicate that vehicles conforms to all applicable Federal Standards Chrysler states that the purpose of the statement is to communicate to a reader that a vehicle is both certified and meets applicable safety standards. The vehicles in question meet and/or exceed all applicable FMVSS required for sale in the United States.

Chrysler has additionally informed NHTSA that it has corrected the noncompliances so that all future production of these vehicles will fully comply with FMVSS Nos. 110 and 120.

In summation, Chrysler believes that the described noncompliances of the subject vehicles are inconsequential to motor vehicle safety, and that its petition, to exempt from providing recall notification of noncompliance as required by 49 U.S.C. 30118 and remedying the recall noncompliance as required by 49 U.S.C. 30120 should be granted.

NHTSA Decision

NHTSA Analysis: NHTSA has reviewed Chrysler's petition requesting a decision that the subject noncompliances are inconsequential to motor vehicle safety and has decided to moot the petition in part and grant it in part based on the following analysis.

Chrysler noted that the certification label attached to the subject vehicles, required by 49 CFR part 567, does not include the correct required statement of certification. The use of the incorrect certification statement on the certification labels is considered a violation of 49 U.S.C. 30115, Certification and the implementing rule at 49 CFR part 567, and not a noncompliance with a Federal Motor Vehicle Safety Standard that would require notification and remedy under of 49 U.S.C. chapter 301. Therefore, this portion of the subject petition, as filed under 49 CFR part 556, is moot.

Second, the affected vehicles (approximately 285 RAM 2500 and 3500 trucks) must comply with either FMVSS No. 110 or FMVSS No. 120 depending on the GVWR. The vehicles with a GVWR of 10,000 pounds or less do not comply with paragraph S4.3.3 of FMVSS No. 110 which requires that the rim size designation appear on the certification label for vehicles other than passenger cars. Likewise, the vehicles with a GVWR greater than 10,000 pounds, do not comply with paragraph S5.3 of FMVSS No. 120 which requires that the rim size designation appear on the certification label or at the manufacture's option on a separate tire information label.

For all affected vehicles, the rim size information can be found in the vehicle's owner's manual or on the rim itself, and the tire size information is available from multiple sources including the owner's manual, the sidewalls of the tires on the vehicle and on the tire placard or information label located on the door or door opening. The rim size can be derived using this tire information. In addition, according to Paragraph S4.4.2(b) of FMVSS No. 110 and paragraph S5.2(b) of FMVSS No. 120, the rim size designation must be marked on the rims to allow for the direct determination of the proper rim size for the vehicle.

NHTSA considers both the Ram 2500 and 3500 trucks to be light duty work trucks that are primarily used by operators experienced with and knowledgeable of their vehicles. It is highly likely that these individuals will readily be able to determine the correct rim sizing if necessary.

Therefore, although the rim size was omitted from the certification labels, the information needed to ensure that the vehicles are equipped with the proper rims and compatible tires is readily available to potential users.

NHTSA Decision: In consideration of the foregoing, NHTSA finds that Chrysler has met its burden of persuasion that the FMVSS No. 110 and FMVSS No. 120 noncompliances are inconsequential to motor vehicle safety.

Accordingly, Chrysler's petition is hereby moot in part and granted in part and Chrysler is exempted from the obligation of providing notification of, and a free remedy for, that noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that Chrysler no longer controlled at the time it determined that the noncompliance existed. However, the granting of this petition does not relieve Chrysler distributors and dealers of the prohibitions on the sale, offer for sale, or introduction or delivery for introduction into interstate commerce of the noncompliant vehicles under their control after Chrysler notified them that the subject noncompliance existed.

Authority: 49 U.S.C. 30118, 30120: delegations of authority at 49 CFR 1.95 and 501.8.

Jeffrey M. Giuseppe,
Director, Office of Vehicle Safety Compliance.

[FR Doc. 2016-11593 Filed 5-16-16; 8:45 am]

BILLING CODE 4910-59-P